DEPARTMENT OF ENERGY

Federal Energy Regulatory Commission

[Project No. 15398-000]

Desert Bloom Energy Storage, LLC; Notice of Preliminary Permit Application Accepted for Filing and Soliciting Comments, Motions To Intervene, and Competing Applications

On March 11, 2025, Desert Bloom Energy Storage, LLC filed an application for a preliminary permit, pursuant to section 4(f) of the Federal Power Act (FPA), proposing to study the feasibility of the Desert Bloom Energy Storage Project (Desert Bloom Project or project) to be located near the city of Las Vegas in Clark County, Nevada. The proposed project would occupy federal land managed by the Bureau of Land Management. The sole purpose of a preliminary permit, if issued, is to grant the permit holder priority to file a license application during the permit term. A preliminary permit does not authorize the permit holder to perform any land-disturbing activities or otherwise enter upon lands or waters owned by others without the owners' express permission.

The proposed project would consist of the following new facilities: (1) an upper reservoir with a storage capacity of 4,900 acre-feet; (2) a lower reservoir with a storage capacity of 4,900 acre-feet; (3) an approximately 4,300-foot-long, 21-foot-diameter steel and concrete penstock; (4) a 200-foot-long, 100-foot-wide, 150-foot-high underground powerhouse with two reversible 225-megawatt Francis-type pump/turbines; (5) an approximately 3.5-mile-long, 132-kilovolt transmission line that would interconnect the project with the grid at an existing substation operated by the Nevada Power Company; and (6) appurtenant facilities. The proposed project would have an estimated annual generation of 1,170,000 megawatt hours operating five days a week.

Applicant Contact: Daniel Greenwell, Desert Bloom Energy Storage, LLC; 10000 West Charleston Blvd., Suite 230 Las Vegas, Nevada 89135; (702) 910-3329.

FERC Contact: Lee Baker; email: everard.baker@ferc.gov; phone: (202) 502-8554.

Deadline for filing comments, motions to intervene, competing applications (without notices of intent), or notices of intent to file competing applications: on or before 5:00 p.m. Eastern Time on November 21, 2025. Competing applications and notices of intent must meet the requirements of 18 CFR 4.36.

The Commission's Office of Public Participation (OPP) supports meaningful public engagement and participation in Commission proceedings. OPP can help members of the public, including landowners, community organizations, Tribal members, and others, access publicly available information and navigate Commission processes. For public inquiries and assistance with filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Washington, DC 20426. Submissions sent via any other carrier must be addressed to: Debbie-Anne A. Reese, Secretary, Federal Energy Regulatory Commission, 12225 Wilkins Avenue, Rockville, Maryland 20852. The first page of any filing should include docket number P-15398-000.

More information about this project, including a copy of the application, can be viewed or printed on the “eLibrary” link of Commission's website at http://www.ferc.gov/docs-filing/elibrary.asp. Enter the docket number (P-15398) in the docket number field to access the document. For assistance, contact FERC Online Support.

Dated: September 22, 2025.
Debbie-Anne A. Reese,
Secretary.

[FR Doc. 2025-18682 Filed 9-25-25; 8:45 am]

BILLING CODE 6717-01-P